DEPARTMENT OF DEFENSE

Department of the Army, Corps of Engineers

Intent To Prepare a Draft Environmental Impact Statement (DEIS) for Barrier Shoreline Restoration in Lafourche, Jefferson, and Plaquemines Parishes, Louisiana, a Component of the Louisiana Coastal Area, Louisiana—Ecosystem Restoration, Barrier Island Restoration, Marsh Creation, and River Diversion, Barataria Basin Feasibility Study

AGENCY: U.S. Army Corps of Engineers, DoD.

ACTION: Notice of intent.

SUMMARY: Pursuant to section 102(2)(C) of the National Environmental Policy Act (NEPA) of 1969, as amended, the Army Corps of Engineers (COE), in cooperation with the U.S. Department of the Interior, Minerals Management Service, will prepare a draft environmental impact statement (EIS) to analyze the direct and indirect beneficial and adverse impacts of implementing barrier shoreline restoration in Lafourche, Jefferson, and Plaquemines Parishes, Louisiana.

The purpose of the proposed action is as follows: (1) In general, the purpose of the Coast 2050 Plan is to sustain a coastal ecosystem that supports and protects the environment, economy, and culture of southern Louisiana, and that contributes greatly to the economy and well-being of the nation; (2) the purpose of the Coast 2050 strategies for the Barataria Basin is to restore and/or protect the natural and human environment to create a sustainable ecosystem in the Barataria Basin within the context of the Gulf of Mexico ecosystem, including coastal Louisiana; and (3) the purpose of the Coast 2050 Plan's barrier island restoration strategy for the Barataria Basin (R2-22 strategy) is to provide and sustain the unique ecological integrity of barrier islands, headlands, and shoreline. Habitats of concern include shoreface, beach, dune, maritime forest, back-barrier marsh, bays, and passes.

The proposed action would consist of the reformation of the barrier shoreline from the Caminada-Moreau Headland at the mouth of Bayou Lafourche to Sandy Point, Louisiana.

FOR FURTHER INFORMATION CONTACT: Questions regarding the EIS may be directed to Mr. Robert Martinson, CEMVN-PM-RS, U.S. Army Corps of Engineers, P.O. Box 60267, New Orleans, Louisiana 70160-0267, telephone: (504) 862-2582.

Questions regarding the proposed action may be directed to Mr. Edmond Russo, CEMVN-PM-C, U.S. Army Corps of Engineers, P.O. Box 60267, New Orleans, Louisiana 70160-0267, telephone: (504) 862-1496.

SUPPLEMENTARY INFORMATION: The Louisiana Department of Natural Resources produced a document entitled “Coast 2050: Toward a Sustainable Coastal Louisiana in 1998.” That document presented strategies jointly developed by Federal, state, and local levels to address Louisiana's massive coastal land loss problem and provide for a sustainable coastal ecosystem by the year 2050. The Louisiana Department of Natural Resources (LDNR) conducted a feasibility study of barrier shorelines that was completed in March 1999 that focused on barrier shoreline loss and developed several alternatives to address the problem. These two efforts culminated in a joint agreement between the Corps of Engineers and the LDNR to evaluate selected features of the Coast 2050 Plan in a Federal feasibility study.

Proposed Action

The proposed action would consist of the reformation of the barrier shoreline from the Caminada-Moreau Headland at the mouth of Bayou Lafourche on the west to Sandy Point on the east. The shoreline would have the ecological attributes of shoreface, beach, dune, maritime forest if possible, back-barrier marsh, bays, and passes. The reformation work could extend Gulfward to approximately the −5.0 foot contour and up to about 1,000 feet in the bayside direction from the edge of the back-barrier marsh.

On the eastern fringe where a large distance has opened between remnant barrier islands and interior marsh, work could extend into the bays up to about 2,500 feet. Larger passes such as Barataria Pass would be left open. Smaller passes may be closed. Sand for reformation would be obtained from nearby coastal bays, the Mississippi River, or from Federal and state waters of the Gulf of Mexico. A combination of sand sources may be used for restoration of these features. If sand is obtained from Federal waters, a non-competitive lease would need to be obtained by the LDNR from the Minerals Management Service. The Minerals Management Service will ensure that information needed by them to make a decision about a lease will be included in the EIS. Also, the benefits of providing geomorphic features at the barrier shoreline to inland areas will be considered in the EIS.

Alternatives

The no-action alternative must be evaluated and retained throughout the study. Additionally, the Barataria Basin portion of the recommended plan from the LDNR Barrier Shoreline Feasibility Study will be investigated. The recommended plan from that study would rebuild dunes at the Caminada-Moreau Headland. The recommendation from that study for the Plaquemines shoreline from Grand Terre to east of Sandy Point is to recreate a dune and marsh platform stabilized with a rock revetment along the gulf shoreline. In addition, another alternative to be evaluated in detail is expected to be developed during the scoping process.

Need for Action

The focus for initial action is in the Barataria Basin (in Lafourche, Jefferson, and Plaquemines parishes), Louisiana, one of nine basins delineated in the Coast 2050 Plan. The Barataria Basin has a very high rate of wetland loss, estimated at about 11 square miles per year from 1978-1990 (Fuller et al. 1995). The area also has tremendous potential for restoration because of nearby sediment in coastal bays, the Mississippi River, and in Federal and state waters of the Gulf of Mexico. While the ultimate goal for coastal restoration under the Coast 2050 plan is to implement strategies throughout coastal Louisiana, the Barataria Basin is in dire need of immediate attention. While most Barataria Basin strategies are dependent on the overall input, movement, and circulation of water, sediment, and nutrients in the basin, there are several strategies that can be implemented largely independent of these considerations. The barrier shoreline restoration strategy is one of those strategies. Restoration of barrier islands, headlands, and shoreline can be applied as a separable activity, independent of other strategies in the Barataria Basin and coastal Louisiana.

The barrier shoreline system in Barataria Basin begins about 45 miles northwest of the mouth of the Mississippi River and forms a concave arch of about 53 miles along the Gulf of Mexico at the southern end of the Barataria Basin. Barrier islands, headlands, and shoreline can offer unique ecological characteristics with an assemblage of intertidal bottoms, beaches, dunes, shrub thickets, and salt marshes not found in interior wetlands. The assemblage of plants and animals is different than in any other area of the basin. Some of the species are endemic to barrier areas. A variety of seabirds, wading birds, and shore birds such as black skimmer, reddish egret, the threatened piping plover, and least tern can utilize barrier islands. The islands can serve as a protection zone for many species of fish, resting areas for migrating birds, nesting locations for birds such as the endangered brown pelican, and nesting beaches for threatened and endangered sea turtles.

The barrier areas in Barataria Basin from Bayou Lafourche to Sandy Point have undergone significant movement and reduction in size during the past 100 years. While some lateral movement of barrier areas is expected as sand is reworked in the nearshore environment, the Barataria Basin barrier areas have retreated and narrowed rapidly, symptoms of a sediment-poor system. Tidal passes that have opened in the islands during the passage of storms do not reseal in fair weather (Levin 1993). Islands have diminished in size (narrowed) to the point that they are likely to vanish in the near future. For example, it is predicted that Grand Terre Island may be gone by 2008 (McBride et al. 1992). Overall, the Barataria barrier islands decreased in area by 47 percent from the 1890s to 1988 (Fuller et al. 1995).

The Caminada-Moreau Headland, forming the western portion of the Barataria barrier system, has experienced some of the highest rates of shoreline movement on the Louisiana or Gulf coast. Between 1978 and 1988, the shoreline on the Barataria coast retreated at a rate of 45 feet/year. The shoreline has retreated over one mile in some locations from 1887-1988 (McBride et al. 1992). The Plaquemines Barrier System in the eastern portion of the system retreated at an average rate of 33 feet/year from 1973-1988. In 1884, Grand Terre Island was 4,198 acres with an average width of 2,982 feet, but by 1988, it was only 1,268 acres with an average width of 1,740 feet. Shell Island was 314 acres with a width of 446 feet. In 1988, it was 171 acres and 345 feet in width (McBride et al. 1992). The shoreline has retreated 0.5-0.75 miles over a large part of the Plaquemines Barrier System.

Many of the barrier areas in Barataria Basin have become nothing more than fragmented, low mounds of sand, easily overwashed by minor storm events, maintaining little ecological value. As the barrier areas become narrower and disintegrate, bays and wetlands behind the barriers become more directly connected with the Gulf of Mexico and its associated wave action and higher salinity water. The implications of these changes for coastal industries and communities are severe even without the threat of hurricane surge and waves. Action to restore barrier areas has become critical.

Fuller, D.A., J.G. Gosselink, J. Barras, and C.E. Sasser. 1995. Physical Setting. pp. 9-23. In: D.J. Reed (ed.) Current Status and Historical Trends of Hydrological Modification, Reduction in Sediment Availability, and Habitat Loss/Modification in the Barataria-Terrebonne Estuarine System. BTNEP No. 20. Barataria Terrebonne National Estuary Program, Thibodaux, LA.

Levin, D.R. 1993. Tidal inlet evolution in the Mississippi River delta plain. Journal of Coastal Research 9.2:462-480.

McBride, R.A., S. Penland, M.W. Hiland, S.J. Williams, K.A. Westphal, B.E. Jaffe, and A.H. Sallenger, Jr. 1992. Analysis of barrier shoreline change in Louisiana from 1853 to 1989. pp. 36-97 In: S.J. Williams, S. Penland, and A.H. Sallenger (eds.) Louisiana Barrier Island Erosion Study, Atlas of Shoreline Changes in Louisiana from 1853 to 1989. U.S. Geological Survey Miscellaneous Investigations Series I-2150-A.

Scoping

The Corps of Engineers and LDNR invite NEPA input in writing or in person concerning the scope of the EIS, resources to be evaluated, and alternatives to be considered. Individuals, groups, and agencies can write comments to the Corps of Engineers using Mr. Martinson's address shown above. The Corps of Engineers and LDNR plan to hold a scoping meeting in Thibodaux, Louisiana on June 8, 2000 from 7-10 pm in the Century Room of the John L. Guidry Stadium located on Audubon Drive of Nicholls State University Campus, Thibodaux, LA 70301. The entrance to the Century Room is a red door under the stadium. Additional meetings with local interests will be held after the scoping meeting as necessary.

A draft EIS is scheduled to be available for public review during March of 2001. A public meeting on the draft EIS will be scheduled at that time.

Dale A. Knieriemen,
Lieutenant Colonel, U.S. Army, Acting District Engineer.

[FR Doc. 00-10640 Filed 4-27-00; 8:45 am]

BILLING CODE 3710-84-U